FEDERAL COMMUNICATIONS COMMISSION

Notice of Public Information Collection(s) Being Reviewed by the Federal Communications Commission, Comments Requested

April 28, 2009.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 30, 2009. If you anticipate that you will be submitting PRA comments, but find it difficult to do so within the period of time allowed by this notice, you should advise the FCC contact listed below as soon as possible.

ADDRESSES: Direct all PRA comments to Nicholas A. Fraser, Office of Management and Budget, via fax at 202-395-5167 or via Internet at Nicholas_A._Fraser@omb.eop.gov and to Judith-B.Herman@fcc.gov, Federal Communications Commission, or an e-mail to PRA@fcc.gov.

FOR FURTHER INFORMATION CONTACT: For additional information, contact Judith B. Herman at 202-418-0214 or via the Internet at Judith-B.Herman@fcc.gov.

SUPPLEMENTARY INFORMATION:

OMB Control Number:

3060-0168.

Title: Section 43.43, Report of Proposed Changes in Depreciation Rates.

Form No.: N/A.

Type of Review: Extension of a currently approved collection.

Respondents: Business or other for-profit.

Number of Respondents: 24 respondents; 24 responses.

Estimated Time per Response: 250 hours.

Frequency of Response: On occasion reporting requirement and recordkeeping requirement.

Obligation To Respond: Required to obtain or retain benefits. Statutory authority for this information collection is contained in 47 U.S.C. 151, 152, 154, 161, 201-205, and 218-220.

Total Annual Burden: 6,000 hours.

Total Annual Cost: $784,320.

Privacy Act Impact Assessment: N/A.

Nature and Extent of Confidentiality: There is no need for confidentiality and respondents are not being asked to submit confidential information to the Commission. However, if the Commission requests respondents to submit information which they believe is confidential, respondents may request confidential treatment of such information under 47 CFR 0.459 of the Commission's rules.

Needs and Uses: The Commission will submit this information collection to the Office of Management and Budget (OMB) after this 60 day comment period in order to obtain the full three year clearance from them. The Commission is requesting an extension (no change in the reporting and/or recordkeeping requirements) of this information collection. The Commission is reporting a significant decrease in the estimated number of respondents/responses since this was last submitted to OMB in 2006. In 2006, the Commission reported 10 respondents/responses with 6,000 total annual burden hours. For this submission to the OMB, the number of respondents/responses increased to 24 with an estimated annual burden of 6,000 total annual burden hours and an increase in annual costs. The annual costs are now estimated to be $785,320 (no costs were estimated in 2006). The reasons for the change in burden are thus:

(1) The estimated time per response was changed from 6,000 hours to 250 hours;

(2) A re-estimate of the number of respondents/responses from 10 to 24 respondents; and

(3) The annual costs have been added to include a $32,680 filing fee per 47 CFR 1.1105. Section 43.43 establishes the reporting requirements for depreciation prescription purposes. Communication common carriers with annual operating revenues of $138 million or more that the Commission has found to be dominant must file information specified in Section 43.43 before making any change in the depreciation rates applicable to their operating plant. Section 220 also allows the Commission, in its discretion, to prescribe the form of any and all accounts, records, and memoranda to be kept by carriers subject to the Act, including the accounts, records and memoranda of the movement of traffic, as well as receipts and expenditures of moneys. Carriers are required to file four summary exhibits along with the underlying data used to generate them, and must provide the depreciation factors (i.e., life, salvage, curve shape, depreciation reserve) required to verify the calculation of the carrier's depreciation expenses and rates. Mid-sized carriers are no longer required to file theoretical reserve studies. Certain price cap incumbent LECs in certain instances may request a waiver of the depreciation prescription process.

OMB Control Number: 3060-0441.

Title: Section 90.621(b)(4) and (b)(5), Selection and Assignment of Frequencies.

Form No.: N/A.

Type of Review: Revision of a currently approved collection.

Respondents: Business or other for-profit; not-for-profit institutions and state, local or tribal government.

Number of Respondents: 20 respondents; 20 responses.

Estimated Time per Response: Respondents contracting out the on occasion reporting requirement will need an estimated .5 hours to comply with this requirement and respondents who will use in-house respondents will need an estimated 1.5 hours.

Frequency of Response: On occasion reporting requirement and recordkeeping requirement.

Obligation To Respond: Required to obtain or retain benefits. Statutory authority for this information collection is contained in 47 U.S.C. 154(i) and 309(j).

Total Annual Burden: 30 hours.

Total Annual Cost: $2,000.

Privacy Act Impact Assessment: N/A.

Nature and Extent of Confidentiality: There is no need for confidentiality.

Needs and Uses: The Commission will submit this information collection to the Office of Management and Budget (OMB) after this 60 day comment period in order to obtain the full three year clearance from them. The Commission is requesting a revision which is due to the elimination of a reporting requirement for minor modification applicants filing pursuant to Short-Spacing Separation Table of under section 90.621(b)(4), which previously required that licensees file notifications of such minor modifications, as well as, the implementation of the 800 MHz re-banding 2nd Report and Order. There are no additional recordkeeping or other compliance requirements imposed beyond those contained in the 800 MHz Report and Order, 61 FR 41190 (July 31, 1997). The Commission has adjusted this collection to reflect the decrease in the total number of filings made pursuant to sections 90.621(b)(4) that do not involve compliance with the referenced short spacing table and 90.621(b)(5) since the time of the previous OMB submission. The Commission reported 1,000 responses in 2006 which we have reduced to 20; the burden hours have reduced from 1,500 hours to 30 hours; and the annual cost has reduced from $100,000 to $2,000.

The Commission will continue to use this information to determine whether to grant licenses to applicants making “minor modifications” to their systems which do not satisfy mileage separation requirements pursuant to the Short-Spacing Separation Table.

Federal Communications Commission.
Marlene H. Dortch,
Secretary.

[FR Doc. E9-10050 Filed 4-30-09; 8:45 am]

BILLING CODE 6712-01-P